DEPARTMENT OF TRANSPORTATION

Federal Aviation Administration

14 CFR Part 39

[Docket No. 2001-NM-144-AD; Amendment 39-12253; AD 2001-11-10]

RIN 2120-AA64

Airworthiness Directives; Bombardier Model DHC-8-400 Series Airplanes

AGENCY: Federal Aviation Administration, DOT.

ACTION: Final rule; request for comments.

SUMMARY: This amendment adopts a new airworthiness directive (AD) that is applicable to certain Bombardier Model DHC-8-400 series airplanes. This action requires revising the Normal and Abnormal Sections of the FAA-approved Airplane Flight Manual to include procedures that enable the flightcrew to determine if the main landing gear (MLG) is extended before landing and to take appropriate actions, if necessary. The actions specified in this AD are intended to ensure that the flightcrew is advised of a potential gear-up landing due to misleading indications of the MLG extension, and has the procedures necessary to address that potential condition. This action is intended to address the identified unsafe condition.

DATES: Effective June 21, 2001. Comments for inclusion in the Rules Docket must be received on or before July 6, 2001.

ADDRESSES: Submit comments in triplicate to the Federal Aviation Administration (FAA), Transport Airplane Directorate, ANM-114, Attention: Rules Docket No. 2001-NM-144-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-144-AD” in the subject line and need not be submitted in triplicate. Comments sent via the Internet as attached electronic files must be formatted in Microsoft Word 97 for Windows or ASCII text.

Information pertaining to the amendment may be examined at the FAA, Transport Airplane Directorate, 1601 Lind Avenue, SW., Renton, Washington; or at the FAA, New York Aircraft Certification Office, 10 Fifth Street, Third Floor, Valley Stream, New York.

FOR FURTHER INFORMATION CONTACT: Dan Parillo, Aerospace Engineer, Systems and Flight Test Branch, ANE-172, FAA, New York Aircraft Certification Office, 10 Fifth Street, Third Floor, Valley Stream, New York 11581; telephone (516) 256-7505; fax (516) 568-2716.

SUPPLEMENTARY INFORMATION: Transport Canada Civil Aviation (TCCA), which is the airworthiness authority for Canada, recently notified the FAA that an unsafe condition may exist on certain Bombardier Model DHC-8-400 series airplanes. TCCA advises that downlock proximity sensors of the main landing gear (MLG) may fail concurrently on the same gear. Such failure of the sensors could result in the failure of the MLG to extend and the flightcrew to receive misleading indications that the MLG has extended.

Issuance of a Canadian Airworthiness Directive

TCCA has issued Canadian airworthiness directive CF-2001-16, dated April 11, 2001, that describes an additional in-flight procedure to the airplane flight manual (AFM). The in-flight procedure describes certain cautions and warnings for performing an alternate landing gear extension; visually inspecting the MLG to confirm that it has been extended; inserting a hydraulic pump handle in socket and operating for a minimum of 12 full strokes and ensuring resistance to pump handle movement; and observing that the LEFT gear safe (green) and RIGHT gear safe (green) advisory lights are illuminated; and the LEFT gear unsafe (red) and RIGHT gear unsafe (red) and the landing handle (amber) advisory lights are extinguished. TCCA has issued the Canadian airworthiness directive in order to assure the continued airworthiness of these airplanes in Canada.

FAA's Conclusions

This airplane model is manufactured in and is type certificated for operation in the United States under the provisions of section 21.29 of the Federal Aviation Regulations (14 CFR 21.29) and the applicable bilateral airworthiness agreement. Pursuant to this bilateral airworthiness agreement, has kept the FAA informed of the situation described above. The FAA has examined the findings of the TCCA, reviewed all available information, and determined that AD action is necessary for products of this type design that are certificated for operation in the United States.

Explanation of Requirements of Rule

Since an unsafe condition has been identified that is likely to exist or develop on other airplanes of the same type design registered in the United States, this AD is being issued to ensure that the flightcrew is advised of the potential of a landing with the MLG up due to misleading indications of the extension of the MLG, and has the appropriate AFM procedures necessary to address it. This AD requires a revision of the Normal and Abnormal Sections of the FAA-approved AFM as specified in the Canadian airworthiness directive described previously.

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-144-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-11-10 Bombardier, Inc.: Amendment 39-12253. Docket 2001-NM-144-AD.

Applicability: Model DHC-8-400 series airplanes, serial numbers 4002 and subsequent, certificated in any category.

Compliance: Required as indicated, unless accomplished previously.

To prevent landing with the main landing gear (MLG) up due to failure of the downlock proximity sensors of the MLG, accomplish the following:

Airplane Flight Manual (AFM) Revision

(a) Within 14 days after the effective date of this AD, revise the Normal and Abnormal Sections of the FAA-approved AFM by inserting the following into Section 4.21, opposite page 4.21.1. This may be accomplished by inserting a copy of this AD in the AFM.

“CAUTION

If illumination of LEFT gear safe (green), and LEFT gear unsafe (red), and landing gear handle (amber) advisory lights with the landing gear handle in the up position.

Or

Illumination of RIGHT gear safe (green), and RIGHT gear unsafe (red), and landing gear handle (amber) advisory lights with the landing gear handle in the up position.

1. Perform an Alternate Landing Gear extension, See paragraph 4.21.

WARNING

Selection of the gear down without following the Alternate Landing Gear Extension procedure may result in the affected gear being trapped inside the nacelle.

2. Visually inspect Main Landing Gear to confirm that it has been extended.

WARNING

A down and locked indication of the affected main landing gear is not a valid indication of the gear position.

3. Insert hydraulic pump handle in socket and operate for a minimum of 12 full strokes and ensure resistance to pump handle movement.

4. Observe the LEFT gear safe (green) and RIGHT gear safe (green) advisory lights are illuminated and the LEFT gear unsafe (red) and RIGHT gear unsafe (red) and the landing handle (amber) advisory lights are extinguished.”

Alternative Methods of Compliance

(b) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 1: Information concerning the existence of approved alternative methods of compliance with this AD, if any, may be obtained from the New York ACO.

Special Flight Permits

(c) Special flight permits may be issued in accordance with sections 21.197 and 21.199 of the Federal Aviation Regulations (14 CFR 21.197 and 21.199) to operate the airplane to a location where the requirements of this AD can be accomplished.

Note 2: The subject of this AD is addressed in Canadian airworthiness directive CF-2001-16, dated April 11, 2001.

(d) This amendment becomes effective on June 21, 2001.

Issued in Renton, Washington, on May 25, 2001.
Vi L. Lipski,
Manager, Transport Airplane Directorate, Aircraft Certification Service.

[FR Doc. 01-13995 Filed 6-5-01; 8:45 am]

BILLING CODE 4910-13-U